FEDERAL COMMUNICATIONS COMMISSION

47 CFR Parts 10 and 11

[PS Docket No. 15-91, PS Docket No. 15-94; Report No. 3061]

Petition for Reconsideration of Action in Rulemaking Proceeding

AGENCY: Federal Communications Commission.

ACTION: Petition for reconsideration.

SUMMARY: A Petition for Reconsideration (Petition) has been filed in the Commission's rulemaking proceeding by Brian M. Josef, on behalf of CTIA.

DATES: Oppositions to the Petition must be filed on or before January 3, 2017. Replies to an opposition must be filed on or before January 13, 2017.

ADDRESSES: Federal Communications Commission, 445 12th Street SW., Washington, DC 20554.

FOR FURTHER INFORMATION CONTACT: James Wiley, Public Safety and Homeland Security Bureau, phone: (202) 418-1678; email: James.Wiley@fcc.gov.

SUPPLEMENTARY INFORMATION: This is a summary of the Commission's document, Report No. 3061, released December 8, 2016. The full text of the Petition is available for viewing and copying at the FCC Reference Information Center, 445 12th Street SW., Room CY-A257, Washington, DC 20554. It also may be accessed online via the Commission's Electronic Comment Filing System at: https://www.fcc.gov/ecfs/filing/10919110011734/document/10919110011734e7d2. The Commission will not send a copy of this document pursuant to the Congressional Review Act, 5 U.S.C. 801(a)(1)(A), because this document does not have an impact on any rules of particular applicability.

Subject: Wireless Emergency Alerts; Amendments to part 11 of the Commission's Rules Regarding the Emergency Alert System, FCC 16-127, Report and Order, in PS Docket Nos. 15-91 and 15-94, published at 81 FR 75710, November 1, 2016. This document is being published pursuant to 47 CFR 1.429(e). See also 47 CFR 1.4(b)(1) and 1.429(f), (g).

Number of Petitions Filed: 1.

Federal Communications Commission.
Marlene H. Dortch,
Secretary.

[FR Doc. 2016-30168 Filed 12-16-16; 8:45 am]

BILLING CODE 6712-01-P